DEPARTMENT OF HEALTH AND HUMAN SERVICES

Centers for Medicare & Medicaid Services

[Document Identifier: CMS-R-211, CMS-R-306, CMS-R-185, and CMS-R-238]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the agency's function; (2) the accuracy of the estimated burden; (3) ways to enhance the quality, utility, and clarity of the information to be collected; and (4) the use of automated collection techniques or other forms of information technology to minimize the information collection burden.

1. Type of Information Collection Request: Extension of a currently approved collection; Title of Information Collection: Model Application Template for State Child Health Plan Under Title XXI of the Social Security Act, State Children's Health Insurance Program, and Model Application Template and Instructions; Use: States are required to submit Title XXI plans and amendments for approval by the Secretary pursuant to Section 2102 of the Social Security Act in order to receive funds for initiating and expanding health insurance coverage for uninsured children. The model application template is used to assist States in submitting a State Child Health Plan and amendments to that plan; Form Number: CMS-R-211 (OMB#: 0938-0707); Frequency: Quarterly and annually; Affected Public: State, local or tribal government; Number of Respondents: 40; Total Annual Responses: 40; Total Annual Hours: 3,200.

2. Type of Information Collection Request: Extension of a currently approved collection; Title of Information Collection: Restraint and Seclusion Standards for Psychiatric Residential Treatment Facilities; Use: Psychiatric residential treatment facilities are required to report deaths, serious injuries and attempted suicides to State Medicaid Agency and Protection and Advocacy Organization. They are also required to provide residents restraint and seclusion policy in writing, and to document resident record of all activities involving use of restraint and seclusion. Form Number: CMS-R-306 (OMB#: 0938-0833); Frequency: On occasion; Affected Public: Business or other for-profit and not-for-profit institutions; Number of Respondents: 500; Total Annual Responses: 1,199,000; Total Annual Hours: 713,250.

3. Type of Information Collection Request: Extension of a currently approved collection; Title of Information Collection: Granting and Withdrawal of Deeming Authority to Private Nonprofit Accreditation Organizations and of State Exemption Under State Laboratory Program and Supporting Regulations in 42 CFR 493.551-493.557; Use: The information required is necessary to determine whether a private accreditation organization's or State licensure program's standards and accreditation/licensure process is equal to or more stringent than those of CLIA; Form Number: CMS-R-185 (OMB#: 0938-0686); Frequency: As needed; Affected Public: Not-for-profit institutions, business or other for-profit, and State, local or tribal government; Number of Respondents: 8; Total Annual Responses: 76; Total Annual Hours: 768.

4. Type of Information Collection Request: Extension of a currently approved collection; Title of Information Collection: Inpatient Psychiatric Services for Individuals Under Age 21 and Supporting Regulations in 42 CFR 441.151 and 441.152; Use: Certification requirements in Section 441.152 require that the certification of need for inpatient psychiatric services include documented clinical evidence that serves as the basis for the certification of need for inpatient psychiatric care. Section 1905(h)(1)(B) requires physicians and other personnel qualified to make determinations, with respect to mental health conditions and the treatment thereof, certify the need for care which they have determined to be necessary on an inpatient basis; Form Number: CMS-R-238 (OMB#: 0938-0754); Frequency: Recordkeeping; Affected Public: State, local or tribal government, not-for-profit institutions and business or other for-profit; Number of Respondents: 80,000; Total Annual Responses: 80,000; Total Annual Hours: 1.

To obtain copies of the supporting statement and any related forms for the proposed paperwork collections referenced above, access CMS Web site address at http://www.cms.hhs.gov/regulations/pra/, or e-mail your request, including your address, phone number, OMB number, and CMS document identifier, to Paperwork@cms.hhs.gov, or call the Reports Clearance Office on (410) 786-1326.

Written comments and recommendations for the proposed information collections must be mailed within 30 days of this notice directly to the OMB desk officer: OMB Human Resources and Housing Branch, Attention: Christopher Martin, New Executive Office Building, Room 10235, Washington, DC 20503.

Dated: March 4, 2005.
John P. Burke, III,
CMS Paperwork Reduction Act Reports Clearance Officer, Office of Strategic Operations and Regulatory Affairs, Regulations Development Group.

[FR Doc. 05-4886 Filed 3-10-05; 8:45 am]

BILLING CODE 4120-03-P